DEPARTMENT OF COMMERCE

International Trade Administration

The Association of Universities for Research in Astronomy (AURA) Application(s)for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 13, 2023. Address written comments to Statutory Import Programs Staff, Room 3720, U.S. Department of Commerce, Washington, DC 20230. Please also email a copy of those comments to Dianne.Hanshaw@trade.gov.

Docket Number: 23-004.

Applicant: The Association of Universities for Research in Astronomy, (AURA), 950 N Cherry Avenue, Tucson, AZ 85719. Instrument: (4) Laser Launch Telescopes. Manufacturer: Officina Stellare, S.p.A., Italy. Intended Use: The instrument is intended to be used to study the creation of four artificial stars for the purpose of conducting Adaptive Optics scientific observations. Existing and upcoming next generation optical telescopes require highly reliable 589 nm high power lasers—to generate so-called Guide Star Lasers—for the implementation of adaptive optics facilities. The four Laser Launch Telescopes will be used to project these laser beacons to create a constellation of artificial laser guide star on top of the telescope. The experiments to be conducted: The four Laser Launch Telescopes used as an accessory to the Adaptive Optics system GMAO (currently in development) will propagate a constellation of artificial guide stars to measure the incoming wavefront. The objectives pursued during the investigations will be used on selected nights for selected astronomical targets in hopes of attaining better scientific data. Justification for Duty-Free Entry: According to the applicant, there are no instruments of the same general category manufactured in the United States. Application accepted by Commissioner of Customs: September 7, 2022.

Dated: January 19, 2023.
Gregory W. Campbell,
Director, Subsidies and Economic Analysis, Enforcement and Compliance.

[FR Doc. 2023-01336 Filed 1-23-23; 8:45 am]

BILLING CODE 3510-DS-P